NUCLEAR REGULATORY COMMISSION

[Docket No. 50-309]

Maine Yankee Atomic Power Co., Maine Yankee Atomic Power Station; Environmental Assessment and Finding of No Significant Impact

The U.S. Nuclear Regulatory Commission (NRC) is considering issuance of an amendment to Facility Operating License No. DPR-36, issued to Maine Yankee Atomic Power Company (MYAPC or the licensee), for the Maine Yankee Atomic Power Station (Maine Yankee or the plant), located in Lincoln County, Maine. Therefore, as required by 10 CFR 51.21, the NRC is issuing this environmental assessment and finding of no significant impact.

Environmental Assessment

Identification of the Proposed Action

The proposed action would revise the license to incorporate a new License Condition 2.B.(9). The license condition would terminate license jurisdiction for a portion of the Maine Yankee site (referred to as the Non-Impacted Backlands (West of Bailey Cove and West of Young's Brook and North of Old Ferry Road)), thereby releasing these lands from Facility Operating License No. DPR-36. The land in question is not used for any licensed activities. No radiological materials have historically been used on this land and the land will not be used to support ongoing decommissioning operations and activities.

The Backlands, approximately 260 hectares (640 acres), are located beyond the 610-meter (2,000-foot) exclusion area established under the requirements of 10 CFR part 100, except for a specific portion. As such, the area has been open and accessible to the general public and is bounded by residential land owners. The Backlands consists of open fields, woodland, and some shoreline property. The Backlands have been designated as a non-impacted area, which means the area was not impacted due to site operation.

The proposed action is in accordance with the licensee's application dated August 16, 2001, as supplemented by letter dated November 19, 2001.

The Need for the Proposed Action

The revision to the license is needed to release the Backlands from the jurisdiction of Facility Operating License No. DPR-36. Portions of this land, approximately 80 hectares (200 acres), will be donated to a tax exempt environmental organization to create a nature preserve and an environmental education center and to provide public access to coastal lands in the mid-coast region of Maine. This donation is part of a rate case settlement that MYAPC made with the Federal Energy Regulatory Commission. The release of the rest of the Backlands will facilitate potential redevelopment and reuse of property that has been part of the Maine Yankee site.

Environmental Impacts of the Proposed Action

The NRC has completed its evaluation of the proposed action and concludes that the issuance of the amendment will not have any significant effect on accident risk or the possibility of environmental impact. The Commission has previously issued a No Significant Hazards Consideration Determination for the proposed action (67 FR 12604) dated March 19, 2002. The proposed action will not significantly increase the probability or consequences of any accidents, no changes are being made in the types of effluents that may be released offsite, and there is no significant increase in occupational or public radiation exposure. Therefore, there are no significant radiological environmental impacts associated with the proposed action.

With regard to potential non-radiological impacts, the proposed action does not have the potential to affect historic or cultural resources, nor will the proposed action affect endangered and threatened species. It does not affect non-radiological plant effluents and has no other environmental impact. Therefore, there are no significant non-radiological environmental impacts associated with the proposed action.

Accordingly, the NRC concludes that there are no significant environmental impacts associated with the proposed action.

Environmental Impacts of the Alternatives to the Proposed Action

As an alternative to the proposed action, the staff considered denial of the proposed action and retention of the Backlands under Facility Operating License No. DPR-36 (i.e., the “no-action” alternative). Denial of the application would result in no change in current environmental impacts. The environmental impacts of the proposed action and the alternative action are identical.

Alternative Use of Resources

The action does not involve the use of any different resource than those previously considered in the Final Environmental Statement for the Maine Yankee Atomic Power Station, dated July 1972.

Agencies and Persons Consulted

On June 11, 2002, the staff consulted with the Maine State official, Mr. Patrick Dostie of the State of Maine, Department of Human Services, regarding the environmental impact of the proposed action. The State official had a question related to the type of effluents (e.g. contaminated dust) that demolition of the slightly contaminated structures could generate. The NRC staff responded to Mr. Dostie's question and provided information that clarified this issue with respect to this licensing action.

Finding of No Significant Impact

On the basis of the environmental assessment, the NRC concludes that the proposed action will not have a significant effect on the quality of the human environment. Accordingly, the NRC has determined not to prepare an environmental impact statement for the proposed action.

For further details with respect to the proposed action, see the licensee's letter dated August 16, 2001, as supplemented by letter dated November 19, 2001. Documents may be examined, and/or copied for a fee, at the NRC's Public Document Room (PDR), located at One White Flint North, 11555 Rockville Pike (first floor), Rockville, Maryland. Publicly available records will be accessible electronically from the Agencywide Documents Access and Management System (ADAMS) Public Electronic Reading Room on the internet at the NRC Web site, http://www.nrc.gov/reading-rm/adams/html. Persons who do not have access to ADAMS or who encounter problems in accessing the documents located in ADAMS, should contact the NRC PDR Reference staff by telephone at 1-800-397-4209 or 301-415-4737, or by e-mail to pdr@nrc.gov.

Dated at Rockville, Maryland, this 19th day of July 2002.
For the Nuclear Regulatory Commission.
William D. Reckley,
Acting Chief, Section 1, Project Directorate IV-1, Division of Licensing Project Management, Office of Nuclear Reactor Regulation.

[FR Doc. 02-18821 Filed 7-24-02; 8:45 am]

BILLING CODE 7590-01-P